DEPARTMENT OF HOUSING AND URBAN DEVELOPMENT

[Docket No. FR-5420-N-01]

Notice of Regulatory Waiver Requests Granted for the First Quarter of Calendar Year 2010

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on January 1, 2010 and ending on March 31, 2010.

FOR FURTHER INFORMATION CONTACT: For general information about this notice, contact Camille E. Acevedo, Associate General Counsel for Legislation and Regulations, Department of Housing and Urban Development, 451 7th Street, SW., Room 10282,Washington, DC 20410-0500, telephone (202) 708-1793 (this is not a toll-free number). Persons with hearing- or speech-impairments may access this number through TTY by calling the toll-free Federal Information Relay Service at (800) 877-8339.

For information concerning a particular waiver that was granted and for which public notice is provided in this document, contact the person whose name and address follow the description of the waiver granted in the accompanying list of waivers that have been granted in the first quarter of calendar year 2010.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from January 1, 2010 through March 31, 2010. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report (the first quarter of calendar year 2010) before the next report is published (the second quarter of calendar year 2010), HUD will include any additional waivers granted for the first quarter in the next report.

Accordingly, information about approved waiver requests pertaining to HUD regulations is provided in the Appendix that follows this notice.

Dated: June 24, 2010.
Helen R. Kanovsky,
General Counsel.

Appendix—Listing of Waivers of Regulatory Requirements Granted by Offices of the Department of Housing and Urban Development January 1, 2010 through March 31, 2010

Note to Reader: More information about the granting of these waivers, including a copy of the waiver request and approval, may be obtained by contacting the person whose name is listed as the contact person directly after each set of regulatory waivers granted.

The regulatory waivers granted appear in the following order:

I. Regulatory waivers granted by the Office of Community Planning and Development.

II. Regulatory waivers granted by the Office of Housing.

III. Regulatory waivers granted by the Office of Public and Indian Housing.

I. Regulatory Waivers Granted by the Office of Community Planning and Development

For further information about the following regulatory waivers, please see the name of the contact person that immediately follows the description of the waiver granted.

• Regulation: 24 CFR 58.22(a).

Project/Activity: The State of Louisiana Department of Culture, Recreation and Tourism received an Economic Development Initiative Special Purpose (EDI-SP) grant in the amount of $745,575 for the Poverty Point restoration project in Delhi, LA. The State of Louisiana will use the EDI-SP funds to build a new visitor center, fishing pier, boat ramp, canoe launch, trails and utility improvements. The visitor center will provide space for educational exhibits describing the natural and cultural history associated with the site. Subsequent to the January 23, 2004 appropriation for the EDI-SP grant, but prior to the completion of a federal environmental review and any release of funds from HUD, the State of Louisiana spent non-HUD funds on construction activities for the project.

Nature of Requirement: HUD's regulation at 24 CFR 58.22(a) requires that an environmental review be performed and a request for release of funds be completed and certified prior to the commitment of non-HUD funds to a project using HUD funds.

Granted by: Mercedes M. Márquez, Assistant Secretary for Community Planning and Development.

Date Granted: January 28, 2010.

Reason Waived: The waiver was granted based on the following findings: The above project would further the HUD mission and advance HUD program goals related to community development; the errors made in the environmental process for the commitment of non-HUD funds were made in good faith and the State of Louisiana did not willfully violate the applicable regulations; no HUD funds were committed; and, based on the revised environmental assessment and the HUD field inspection, granting a waiver will not result in any unmitigated, adverse environmental impact.

Contact: Danielle Schopp, Office of Environment and Energy, Office of Community Planning and Development, Department of Housing and Urban Development, 451 7th Street, SW., Room 7250, Washington, DC 20410-7000, telephone (202) 402-4442.

• Regulation: 24 CFR 58.22(a).

Project/Activity: Liberty Trinity Garden Apartment Homes is a 76-unit tax-credit project for the elderly to be built in the City of Liberty, TX under the auspices of the Orange Regional HOME Consortium (ORHC). The project will include $571,586 of HOME funds, which will be used for the construction of five of the units with rents at 30 percent of median income for twenty years.

The environmental review for the property was completed and submitted to the HUD San Antonio Field Office on October 26, 2007 where it was determined that the developer had used non-HUD funds to acquire the property for this development after submission of a HOME grant application, but prior to the completion of the environmental review.

Nature of Requirement: HUD's regulation at 24 CFR 58.22(a) requires that an environmental review be performed and a request for release of funds be completed and certified prior to the commitment of non-HUD funds to a project using HUD funds.

Granted by: Mercedes M. Márquez, Assistant Secretary for Community Planning and Development.

Date Granted: March 22, 2010.

Reason Waived: The waiver was granted based on the following findings: the above project would further the HUD mission and advance HUD program goals related to community development; the errors made in the environmental process for the commitment of non-HUD funds were made in good faith and the Orange HOME Consortium in the State of Texas did not willfully violate the applicable regulations; no HUD funds were committed; and, based on the environmental assessment and the HUD field inspection, granting a waiver will not result in any unmitigated, adverse environmental impact.

Contact: Danielle Schopp, Office of Environment and Energy, Office of Community Planning and Development, Department of Housing and Urban Development, 451 7th Street, SW., Room 7250, Washington, DC 20410-7000, telephone (202) 402-4442.

• Regulation: 24 CFR 91.520(a).

Project/Activity: The State of Pennsylvania CDBG Program.

Nature of Requirement: Section 91.520(a) of HUD's regulations (24 CFR 91.520(a)) requires the State of Pennsylvania to submit its annual performance report within 90 days after the end of its program year.

Granted by: Mercedes Márquez, Assistant Secretary for Community Planning and Development.

Date Granted: March 29, 2010.

Reason Waived: The State of Pennsylvania was unable to generate accurate reports from HUD's Integrated Disbursement Information System (IDIS) upon which it relies to summarize financial and performance data entered into the system. HUD's correction of the system issues could not be completed in time for the State to meet the due date for its Consolidated Annual Performance and Evaluation Report (CAPER).

Contact: Diane Lobasso, Director, State and Small Cities Division, Office of Block Grant Assistance, Office of Community Planning and Development, Department of Housing and Urban Development, 451 7th Street, SW., Room 7184, Washington, DC 20410-7000, telephone (202) 402-2191.

• Regulation: 24 CFR 91.520(d).

Project/Activity: Joliet, IL Consolidated Plan.

Nature of Requirement: Section 91.520(d) of HUD's regulations requires that the Department of Housing and Urban Development must approve or disapprove a plan within 30 days of receiving the resubmission of a plan that was disapproved.

Granted by: Mercedes Márquez, Assistant Secretary for Community Planning and Development.

Date Granted: March 31, 2010.

Reason Waived: HUD notified the City of Joliet, IL that its 2010 Consolidated Plan was disapproved because the plan lacked satisfactory certifications required as part of a complete Consolidated Plan submission under 24 CFR part 91. The waiver was granted to provide the City sufficient time to provide the assurances necessary to meet the criteria for HUD approval of certifications satisfactory to the Secretary that it will affirmatively further fair housing and administer the City's CDBG grant in conformity with anti-discrimination laws and other applicable laws.

Contact: Yolanda Chávez, Deputy Assistant Secretary for Grant Programs, Department of Housing and Urban Development, 451 7th Street, SW., Room 7204, Washington, DC 20410-7000, telephone (202) 708-2111.

• Regulation: Notice of Allocations, Application Procedures, and Requirements for Homelessness Prevention and Rapid Re-Housing Program Grantees under the American Recovery and Reinvestment Act of 2009 (Recovery Act of 2009), issued March 19, 2009 (HPRP Notice).

Project/Activity: Homelessness Prevention and Rapid Re-Housing Program (HPRP) grantee, the City of Ontario, California, requested a waiver of the limitation on eligible subgrantees in order to subgrant HPRP funds to the Ontario Housing Authority (OHA).

Nature of Requirement: Subsections III.B. and III.C. of the HPRP Notice provides that metropolitan cities, urban counties, and territories may distribute all or part of their grant amounts to private non-profit organizations or another local government.

Granted by: Mercedes Marquez. Assistant Secretary for Community Planning and Development.

Date Granted: February 16, 2010.

Reason Waived: The City provided sufficient information for HUD to grant the waiver on the basis of the following: HPRP participants would be selected in a manner that would ensure OHA residents are not unfairly selected over other eligible individuals and families; (2) utilizing OHA as a subgrantee would result in an efficient and effective program that benefits HPRP participants; and (3) OHA was found to have proven capacity to serve homeless persons.

Contact: Ann M. Oliva, Director, Office of Special Needs Programs, Office of Community Planning and Development, Department of Housing and Urban Development, 451 7th Street, SW., Room 7262, Washington, DC 20410-7000, telephone number (202) 708-4300.

II. Regulatory Waivers Granted by the Office of Housing—Federal Housing Administration (FHA)

For further information about the following regulatory waivers, please see the name of the contact person that immediately follows the description of the waiver granted.

• Regulation: 24 CFR 200.85(b).

Project/Activity: North Pointe II, Fort Smith, Arkansas, Project #082-35411.

Nature of Requirement: HUD's regulation at 24 CFR 200.85(b) prohibits an inferior lien being placed on a property with a HUD FHA-insured mortgage, which will be repaid from mortgage proceeds other than surplus cash or residual receipts.

Granted by: David H. Stevens, Assistant Secretary for Housing—Federal Housing Commissioner.

Date Granted: March 24, 2010.

Reason Waived: The waiver was granted to give the owner the authority to service the HOME loan from project operating funds, which would make it possible for the project to be constructed and serve as an affordable housing resource. Low-Income Housing Tax Credits (LIHTC), tied with HUD HOME funds, and allowed the project to be feasible. The Arkansas Development Finance Authority (ADFA) requires monthly principal and interest payments as a condition of the HOME funds loan.

Contact: Daniel L. Sullivan, Director, Housing Policy, Multifamily Development, Office of Multifamily Housing, Office of Housing, Department of Housing and Urban Development, 451 7th Street, SW., Room 6148, Washington, DC 20410-8000, telephone (202) 708-1142.

• Regulation: 24 CFR 203.4(b).

Project/Activity: PNC Mortgage, a division of PNC Bank, National Association, Downers Grove, IL.

Nature of Requirement: HUD's regulation at 24 CFR 203.4(b) provides that to be approved for Lender Insurance, a mortgagee must have had an acceptable claim and default record for at least two years prior to its application for participation in the Lender Insurance (LI) program.

Granted by: David H. Stevens, Assistant Secretary for Housing—Federal Housing Commissioner.

Date Granted: January 14, 2010.

Reason Waived: In November 2009, National City Bank (which had LI Authority) completed its merger into PNC Bank, National Association (which did not have LI authority). HUD determined that using National City Bank's claim and default performance for the past two years to calculate whether PNC Bank's default and claim record is acceptable in order to qualify as an LI participant is sufficient. Furthermore, all FHA-insured loans that will be processed underwritten, closed and insured by PNC Bank would use the same resources that were used by National City Bank, whose default and claim record qualified it for acceptance into the Program without a waiver of the regulations in question.

Contact: Margaret E. Burns, Director, Office of Single Family Housing Program Development, Office of Housing, Department of Housing and Urban Development, 451 7th Street, SW., Room 9278, Washington, DC 20410-8000, telephone (202) 708-2121.

• Regulation: 24 CFR 203.37a(b)(2).

Project/Activity: Rehabilitation and returning to the housing market foreclosed and abandoned homes.

Nature of Requirement: HUD's regulation at 24 CFR 203.37a(b)(2) provides that, generally, a mortgage for a property will not be eligible for FHA insurance if the contract of sale for the purchase of the property is executed within 90 days of the prior acquisition by the seller.

Granted by: David H. Stevens, Assistant Secretary for Housing—Federal Housing Commissioner.

Date Granted: January 15, 2010.

Reason Waived: FHA research found that acquiring, rehabilitating and the reselling recently acquired properties to prospective homeowners often takes less than 90 days. Prohibiting the use of FHA mortgage insurance for a subsequent resale within 90 days of acquisition adversely impacts the willingness of sellers to allow contracts from potential FHA buyers because they must consider holding costs and the risk of vandalism associated with allowing a property to sit vacant over a 90-day period of time. The waiver would permit buyers to use FHA-insured financing to purchase HUD-owned properties, bank-owned properties, or properties resold through private sales. During this period in which foreclosures remain high, the waiver would allow homes to resell as quickly as possible, helping to stabilize real estate prices and to revitalize neighborhoods and communities. Under the waiver, forward mortgages on these properties are eligible for FHA insurance if the sale is an arms-length transaction. If the resale price exceeds the acquisition price by twenty percent or more, the lender must justify and document the increase in value, and the buyer must receive a home inspection prior to closing.

Contact: Margaret E. Burns, Director, Office of Single Family Housing Program Development, Office of Housing, Department of Housing and Urban Development, 451 7th Street, SW., Room 9278, Washington, DC 20410-8000, telephone (202) 708-2121.

• Regulation: 24 CFR 219.220(b).

Project/Activity: Cathedral Place Apartments Park (Mobile County), Mobile, Alabama—FHA Project Number 062-44043. The owner requested permission to defer repayment of the Flexible Subsidy loan on this project. The deferral would enable urgent repairs and rehabilitation to be completed for revitalization of the project.

Nature of Requirement: Section 219.220(b) of HUD's regulations governs the repayment of operating assistance provided under the Flexible Subsidy Program for Troubled Projects prior to May 1, 1996 and states: “Assistance that has been paid to a project owner under this subpart must be repaid at the earlier of the expiration of the term of the mortgage, termination of mortgage insurance, prepayment of the mortgage, or sale of the project * * *.” Either of these actions would typically terminate FHA involvement with the property, and the Flexible Subsidy Loan would be repaid, in whole, at that time.

Granted by: David H. Stevens, Assistant Secretary for Housing—Federal Housing Commissioner.

Date Granted: January 14, 2010.

Reason Waived: This regulation was waived in order to exempt Catholic Housing of Mobile, Incorporated, from the requirement to repay the Flexible Subsidy Operating Assistance Loan upon prepayment/refinancing of the loan; thereby allowing financing to rehabilitate the property and ensure preservation of the project as an affordable housing resource.

Contact: Robert G. Iber, Acting Director, Office of Asset Management, Office of Housing, Department of Housing and Urban Development, 451 7th Street, SW., Room 6148, Washington, DC 20410-8000, telephone (202) 708-3730.

• Regulation: 24 CFR 891.100(c) and 24 CFR 891.808(a).

Project/Activity: Erbograph Apartments Senior Housing, New York, NY, Project Number: 012-EE364/NY36-S071-010.

Nature of Requirement: Section 891.100(c) provides that the sponsor may only transfer the capital advance funds to the owner formed by the sponsor and section 891.808(a) provides that a sponsor may transfer the fund reservation directly to the owner or to the general partner of the owner, or the sponsor may be the general partner of the mixed-finance owner if the sponsor meets the applicable statutory and regulatory requirements.

Granted by: David H. Stevens, Assistant Secretary for Housing—Federal Housing Commissioner.

Date Granted: March 23, 2010.

Reason Waived: The waiver was granted to permit the capital advance funds to flow from the sponsor through an intermediary third party before reaching the mixed-finance owner to satisfy Internal Revenue Service (IRS) tax code.

Contact: Willie Spearmon, Director, Office of Housing Assistance and Grant Administration, Office of Housing, Department of Housing and Urban Development, 451 7th Street, SW., Room 6130, Washington, DC 20410-8000, telephone (202) 708-3000.

• Regulation: 24 CFR 891.100(d).

Project/Activity: Villa Serena, Chico, CA, Project Number: 136-HD021/CA30-Q071-001.

Nature of Requirement: Section 891.100(d) prohibits amendment of the amount of the approved capital advance funds prior to closing.

Granted by: David H. Stevens, Assistant Secretary for Housing—Federal Housing Commissioner.

Date Granted: March 4, 2010.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone (202) 708-3000.

• Regulation: 24 CFR 891.100(d).

Project/Activity: Bayberry Courts, Inc., South Kingstown, RI, Project Number: 016-HD049/RI43-Q051-002.

Nature of Requirement: Section 891.100(d) prohibits amendment of the amount of the approved capital advance funds prior to closing.

Granted by: David H. Stevens, Assistant Secretary for Housing—Federal Housing Commissioner.

Date Granted: March 4, 2010.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone (202) 708-3000.

• Regulation: 24 CFR 891.100(d).

Project/Activity: Independent Living Horizons Thirteen, Harlem, GA, Project Number: 061-EE169/GA06-S081-005.

Nature of Requirement: Section 891.100(d) prohibits amendment of the amount of the approved capital advance funds prior to closing.

Granted by: David H. Stevens, Assistant Secretary for Housing—Federal Housing Commissioner.

Date Granted: March 11, 2010.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone (202) 708-3000.

• Regulation: 24 CFR 891.100(d).

Project/Activity: Swope Gardens, Kansas City, MO, Project Number: 084-HD062/MO16-Q081-003.

Nature of Requirement: Section 891.100(d) prohibits amendment of the amount of the approved capital advance funds prior to closing.

Granted by: David H. Stevens, Assistant Secretary for Housing—Federal Housing Commissioner.

Date Granted: March 11, 2010.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone (202) 708-3000.

• Regulation: 24 CFR 891.100(d).

Project/Activity: Richard Walz Apartments, Jefferson City, MO, Project Number: 086-HD050/MO36-Q081-003.

Nature of Requirement: Section 891.100(d) prohibits amendment of the amount of the approved capital advance funds prior to closing.

Granted by: David H. Stevens, Assistant Secretary for Housing—Federal Housing Commissioner.

Date Granted: March 29, 2010.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone (202) 708-3000.

• Regulation: 24 CFR 891.100(d).

Project/Activity: Westfield Towers, Aliquippa, PA, Project Number: 033-EE136/PA28-S081-003.

Nature of Requirement: Section 891.100(d) prohibits amendment of the amount of the approved capital advance funds prior to closing.

Granted by: David H. Stevens, Assistant Secretary for Housing—Federal Housing Commissioner.

Date Granted: March 29, 2010.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone (202) 708-3000.

• Regulation: 24 CFR 891.100(d).

Project/Activity: Atoka Tumaha Okla, Atoka, OK, Project Number: 118-EE050/OK56-S081-003.

Nature of Requirement: Section 891.100(d) prohibits amendment of the amount of the approved capital advance funds prior to closing.

Granted by: David H. Stevens, Assistant Secretary for Housing—Federal Housing Commissioner.

Date Granted: March 30, 2010.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone (202) 708-3000.

• Regulation: 24 CFR 891.100(d) and 24 CFR 891.165.

Project/Activity: Top House, Topsfield, MA, Project Number: 023-HD225/MA06-Q061-001.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: David H. Stevens, Assistant Secretary for Housing—Federal Housing Commissioner.

Date Granted: March 18, 2010.

Reason Waived: The project is economically designed and comparable in cost to similar projects in the area, and the sponsor/owner exhausted all efforts to obtain additional funding from other sources. The sponsor/owner required additional time to redesign the project to meet the requirements of the Department of Mental Retardation.

Contact: Willie Spearmon, Director, Office of Housing Assistance and Grant Administration, Office of Housing, Department of Housing and Urban Development, 451 7th Street, SW., Room 6130, Washington, DC 20410-8000, telephone (202) 708-3000.

• Regulation: 24 CFR 891.165.

Project/Activity: Lafayette Manor, Staten Island, NY, Project Number: 012-EE336/NY06-S051-004.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: January 12, 2010.

Reason Waived: Additional time was needed for the firm commitment to be processed and for the project to be initially closed.

Contact: Willie Spearmon, Director, Office of Housing Assistance and Grant Administration, Office of Housing, Department of Housing and Urban Development, 451 7th Street, SW., Room 6130, Washington, DC 20410-8000, telephone (202) 708-3000.

• Regulation: 24 CFR 891.165.

Project/Activity: Enola A. Dew Village Apartments, Chicago, IL, Project Number: 071-EE232/IL06-S071-001.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: January 12, 2010.

Reason Waived: Additional time was needed for the sponsor/owner to obtain the building permits, submit the initial/final closing documents and for the project to be initially closed.

Contact: Willie Spearmon, Director, Office of Housing Assistance and Grant Administration, Office of Housing, Department of Housing and Urban Development, 451 7th Street, SW., Room 6130, Washington, DC 20410-8000, telephone (202) 708-3000.

• Regulation: 24 CFR 891.165.

Project/Activity: Villa Matti (f/k/a Villa Maria II), Miami Beach. FL, Project Number: 066-EE111/FL29-S061-005.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: January 13, 2010.

Reason Waived: Additional time was needed to finalize the secondary financing and initial closing documents.

Contact: Willie Spearmon, Director, Office of Housing Assistance and Grant Administration, Office of Housing, Department of Housing and Urban Development, 451 7th Street, SW., Room 6130, Washington, DC 20410-8000, telephone (202) 708-3000.

• Regulation: 24 CFR 891.165.

Project/Activity: Casa Del Pueblo II, Tucson, AZ, Project Number: 123-EE103/AZ20-S061-009.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: January 13, 2010.

Reason Waived: Additional time was needed for the sponsor/owner to obtain a clear title for the site and for the city of Tucson to approve a lot split and for the project to be initially closed.

Contact: Willie Spearmon, Director, Office of Housing Assistance and Grant Administration, Office of Housing, Department of Housing and Urban Development, 451 7th Street, SW., Room 6130, Washington, DC 20410-8000, telephone (202) 708-3000.

• Regulation: 24 CFR 891.165.

Project/Activity: West Bergen ILP 2005, Ridgewood, NJ, Project Number: 031-HD145/NJ39-Q051-001.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: January 13, 2010.

Reason Waived: Additional time was needed to resolve objections raised by the neighbors to the NJ Council on Affordable Housing (COAH) and for the project to reach initial closing.

Contact: Willie Spearmon, Director, Office of Housing Assistance and Grant Administration, Office of Housing, Department of Housing and Urban Development, 451 7th Street, SW., Room 6130, Washington, DC 20410-8000 telephone (202) 708-3000.

• Regulation: 24 CFR 891.165.

Project/Activity: Homes of Care III, Groveland, MA, Project Number: 023-HD227/MA06-Q071-001.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: January 13, 2010.

Reason Waived: Additional time was needed for the sponsor/owner to resolve an issue with the town concerning a water hook up fee and for the project to achieve an initial closing.

Contact: Willie Spearmon, Director, Office of Housing Assistance and Grant Administration, Office of Housing, Department of Housing and Urban Development, 451 7th Street, SW., Room 6130, Washington, DC 20410-8000, telephone (202) 708-3000.

• Regulation: 24 CFR 891.165.

Project/Activity: Parham House, Vista, CA, Project Number: 129-EE031/CA33-S061-001.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: January 13, 2010.

Reason Waived: Additional time was needed to finalize the secondary funding and for the project to achieve an initial closing.

Contact: Willie Spearmon, Director, Office of Housing Assistance and Grant Administration, Office of Housing, Department of Housing and Urban Development, 451 7th Street, SW., Room 6130, Washington, DC 20410-8000, telephone (202) 708-3000.

• Regulation: 24 CFR 891.165.

Project/Activity: Arbor Court, Fresno, CA, Project Number: 121-HD083/CA39-Q041-003.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: January 13, 2010.

Reason Waived: Additional time was needed for completion of specifications review by the city, resubmission of the firm commitment application and for the project to be initially closed.

Contact: Willie Spearmon, Director, Office of Housing Assistance and Grant Administration, Office of Housing, Department of Housing and Urban Development, 451 7th Street, SW., Room 6130, Washington, DC 20410-8000, telephone (202) 708-3000.

• Regulation: 24 CFR 891.165.

Project/Activity: North Highlands VOA Living Center, North Highlands, CA, Project Number: 136-HD019/CA30-Q061-001.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: January 13, 2010.

Reason Waived: Additional time was needed for the sponsor/owner to finalize secondary funding documents with the Sacramento County Housing and Redevelopment Agency and for the project to achieve an initial closing.

Contact: Willie Spearmon, Director, Office of Housing Assistance and Grant Administration, Office of Housing, Department of Housing and Urban Development, 451 7th Street, SW., Room 6130, Washington, DC 20410-8000, telephone (202) 708-3000.

• Regulation: 24 CFR 891.165.

Project/Activity: Tomlinson Apartments, Vista, CA, Project Number: 129-HD030/CA33-Q041-001.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: January 25, 2010.

Reason Waived: Additional time was needed for the sponsor/owner to work with the architect and contractors to reduce the construction cost, to obtain additional funds and for the project to be initially closed.

Contact: Willie Spearmon, Director, Office of Housing Assistance and Grant Administration, Office of Housing, Department of Housing and Urban Development, 451 7th Street, SW., Room 6130, Washington, DC 20410-8000, telephone (202) 708-3000.

• Regulation: 24 CFR 891.165.

Project/Activity: 29th Avenue Apartments, San Francisco, CA, Project Number: 121-HD089/CA39-Q071-001.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: February 2, 2010.

Reason Waived: Additional time was needed to process the revised firm commitment application and for the project to achieve an initial closing.

Contact: Willie Spearmon, Director, Office of Housing Assistance and Grant Administration, Office of Housing, Department of Housing and Urban Development, 451 7th Street, SW., Room 6130, Washington, DC 20410-8000, telephone (202) 708-3000.

• Regulation: 24 CFR 891.165.

Project/Activity: Lake Serenity, Jackson, MS, Project Number: 065-EE049/MS26-S071-001.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: February 4, 2010.

Reason Waived: Additional time was needed for the project to achieve an initial closing.

Contact: Willie Spearmon, Director, Office of Housing Assistance and Grant Administration, Office of Housing, Department of Housing and Urban Development, 451 7th Street, SW., Room 6130, Washington, DC 20410-8000, telephone (202) 708-3000.

• Regulation: 24 CFR 891.165.

Project/Activity: Pensacola VOA Living Center, Pensacola, FL, Project Number: 063-HD025/FL29-Q071-003.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: February 26, 2010.

Reason Waived: Additional time was needed to finalize the initial closing documents and for the project to achieve an initial closing.

Contact: Willie Spearmon, Director, Office of Housing Assistance and Grant Administration, Office of Housing, Department of Housing and Urban Development, 451 7th Street, SW., Room 6130, Washington, DC 20410-8000, telephone (202) 708-3000.

• Regulation: 24 CFR 891.165.

Project/Activity: Garrett House, Wilmington, DE, Project Number: 032-HD036/DE26-Q061-002.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: March 4, 2010.

Reason Waived: Additional time was needed for the sponsor/owner to resolve some issues with the initial closing documents and for the project to reach an initial closing.

Contact: Willie Spearmon, Director, Office of Housing Assistance and Grant Administration, Office of Housing, Department of Housing and Urban Development, 451 7th Street, SW., Room 6130, Washington, DC 20410-8000, telephone (202) 708-3000.

• Regulation: 24 CFR 891.165.

Project/Activity: St. Joseph Place, Kansas City, MO, Project Number: 084-EE073/MO16-S071-002.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: March 11, 2010.

Reason Waived: Additional time was needed for the closing documents to be reviewed and for the project to achieve an initial closing.

Contact: Willie Spearmon, Director, Office of Housing Assistance and Grant Administration, Office of Housing, Department of Housing and Urban Development, 451 7th Street, SW., Room 6130, Washington, DC 20410-8000, telephone (202) 708-3000.

• Regulation: 24 CFR 891.165.

Project/Activity: Sheldon Terrace Apartments, New Haven, CT, Project Number: 017-HD040/CT26-Q071-001.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: March 26, 2010.

Reason Waived: Additional time was needed for the sponsor/owner to obtain signed easements from three neighbors and for the project to achieve an initial closing.

Contact: Willie Spearmon, Director, Office of Housing Assistance and Grant Administration, Office of Housing, Department of Housing and Urban Development, 451 7th Street, SW., Room 6130, Washington, DC 20410-8000, telephone (202) 708-3000.

• Regulation: 24 CFR 891.165.

Project/Activity: Senior City, Federal Way, WA, Project Number: 127-EE061/WA19-S071-002.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: March 29, 2010.

Reason Waived: Additional time was needed for this mixed finance project, which is being developed as a capital advance upon completion project, to complete construction and reach initial/final closing.

Contact: Willie Spearmon, Director, Office of Housing Assistance and Grant Administration, Office of Housing, Department of Housing and Urban Development, 451 7th Street, SW., Room 6130, Washington, DC 20410-8000, telephone (202) 708-3000.

• Regulation: 24 CFR 891.165.

Project/Activity: Darlington Road Supportive Housing, Pittsburgh, PA, Project Number: 033-HD104/PA28-Q071-001.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: March 30, 2010.

Reason Waived: Additional time was needed for the firm commitment to be processed, amendment funds to be approved and for the project to achieve an initial closing.

Contact: Willie Spearmon, Director, Office of Housing Assistance and Grant Administration, Office of Housing, Department of Housing and Urban Development, 451 7th Street, SW., Room 6130, Washington, DC 20410-8000, telephone (202) 708-3000.

• Regulation: 24 CFR 891.205.

Project/Activity: Immanuel Trinity Courtyard III, Omaha, NE, Project Number: 103-EE039/NE26-S081-001.

Nature of Requirement: Section 891.205 requires the owner to be a single-purpose private nonprofit organization that is established by the sponsor to receive the capital advance and project rental assistance payments to develop and operate supportive housing for the elderly as its legal owner.

Granted by: David H. Stevens, Assistant Secretary for Housing—Federal Housing Commissioner.

Date Granted: February 1, 2010.

Reason Waived: Having the same ownership-entity for this project and two other projects would result in substantial annual cost savings and provide efficient management and supportive services for the project.

Contact: Willie Spearmon, Director, Office of Housing Assistance and Grant Administration, Office of Housing, Department of Housing and Urban Development, 451 7th Street, SW., Room 6130, Washington, DC 20410-8000, telephone (202) 708-3000.

• Regulation: 24 CFR 891.401(c).

Project/Activity: Carolina Place, Rock Hill, South Carolina—FHA Project Number 054-HD002.

Nature of Requirement: Section 891.410 of HUD's regulations relates to admission of families to projects for elderly or handicapped families that receive reservations under Section 202 of the Housing Act of 1959, as amended by section 801 of the National Affordable Housing Act of 1990. Section 891.410(c) limits occupancy to very low-income elderly persons. To qualify, households must include a minimum of one person who is at least 62 years of age at the time of initial occupancy.

Granted by: David H. Stevens, Assistant Secretary for Housing—Federal Housing Commissioner.

Date Granted: March 3, 2010.

Reason Waived: This waiver was granted to allow the managing agent to waive regulations determining eligibility and selection of tenants due to a leasing error which allowed admission of an ineligible tenant. An audit revealed that the tenant's income was above the very low-income limit. The tenant does, however, meet other criteria for admission to this Section 811 Capital Advance project. Waiver of the regulation allowed the tenant to continue to reside in the unit but pay market rent. This waiver was granted only for this property and this tenant.

Contact: Robert G. Iber, Acting Director, Office of Asset Management, Office of Housing, Department of Housing and Urban Development, 451 7th Street, SW., Room 6148, Washington, DC 20410-8000, telephone (202) 708-3730.

• Regulation: 24 CFR 891.805.

Project/Activity: Erbograph Apartments Senior Housing, New York, NY, Project Number: 012-EE364/NY36-S071-010.

Nature of Requirement: Section 891.805 provides that this entity be a private nonprofit organization with a 501(c)(3) or 501(c)(4) tax exemption (in the case of supportive housing for the elderly), or a nonprofit organization with a 501(c)(3) (in the case of supportive housing for persons with disabilities).

Granted by: David H. Stevens, Assistant Secretary for Housing—Federal Housing Commissioner.

Date Granted: January 14, 2010.

Reason Waived: The waiver was granted to allow the use of a corporation, where the nonprofit sponsor is the sole shareholder, as the sole general partner of the mixed-finance owner because the New York Not-for-Profit Corporation Law does not permit a not-for-profit corporation to act as a partner in a partnership.

Contact: Willie Spearmon, Director, Office of Housing Assistance and Grant Administration, Office of Housing, Department of Housing and Urban Development, 451 7th Street, SW., Room 6130, Washington, DC 20410-8000, telephone (202) 708-3000.

• Regulation: 24 CFR 891.808(a).

Project/Activity: Erbograph Apartments Senior Housing, New York, NY, Project Number: 012-EE364/NY36-S071-010.

Nature of Requirement: Section 891.808(a) provides that a sponsor may transfer the fund reservation directly to the owner or to the general partner of the owner, or the sponsor may be the general partner of the mixed-finance owner if the sponsor meets the applicable statutory and regulatory requirements.

Granted by: David H. Stevens, Assistant Secretary for Housing—Federal Housing Commissioner.

Date Granted: January 14, 2010.

Reason Waived: The waiver was granted to permit the capital advance funds to flow from the sponsor through an intermediary third party before reaching the mixed-finance owner to satisfy IRS tax code and to allow the tax credits to flow to the limited partner.

Contact: Willie Spearmon, Director, Office of Housing Assistance and Grant Administration, Office of Housing, Department of Housing and Urban Development, 451 7th Street, SW., Room 6130, Washington, DC 20410-8000, telephone (202) 708-3000.

III. Regulatory Waivers Granted by the Office of Public and Indian Housing

For further information about the following regulatory waivers, please see the name of the contact person that immediately follows the description of the waiver granted.

• Regulation: 24 CFR 85.6(c), 24 CFR 85.32(e), 24 CFR 85.32(e)(2).

Project/Activity: Hampton Redevelopment and Housing Authority, Hampton, Virginia.

Nature of Requirement: The above-referenced regulations in 24 CFR part 85, provide that when original or replacement equipment acquired under a grant is no longer needed for the original project or program or for other activities currently or previously supported by a Federal agency, disposition of the equipment will be made as follows: (1) Items of equipment with a current per-unit fair market value of less than $5,000 may be retained, sold or otherwise disposed of with no further obligation to the awarding agency; and (2) Items of equipment with a current per unit fair market value in excess of $5,000 may be retained or sold and the awarding agency shall have a right to an amount calculated by multiplying the current market value or proceeds from sale by the awarding agency's share of the equipment.

Granted By: Sandra B. Henriquez, Assistant Secretary for Public and Indian Housing.

Date Granted: February 19, 2010.

Reason Waived: The review of request found that the PHA presented good cause for exemption to 24 CFR 85.32 and thereby agreed to waive the requirement to reimburse HUD for its participation in the property, with the following stipulations: (1) in the event that the property is sold after ten years of the date of this letter, any future sales proceeds associated with the property must be used to support affordable housing; and (2) any sale of the property prior to ten years from the date of this letter would be subject to a formal disposition request under Section 18 of the Housing Act of 1937. Additionally, HUD clarified that the agency has the authority to assign the personal property in the maintenance building to the Central Office Cost Center (COCC) of the PHA.

Contact: Johnson Abraham, Acting Program Manager, NASS, Real Estate Assessment Center, Office of Public and Indian Housing, Department of Housing and Urban Development, 550 12th Street, SW., Suite 100, Washington, DC 20410-5000, telephone (202) 475-8736.

• Regulation: 24 CFR 85.32(e)(2).

Project/Activity: Housing Authority of the City of Goldsboro, Goldsboro, North Carolina.

Nature of Requirement: HUD's regulation at 24 CFR 85.32(e)(2) provides that when original or replacement equipment acquired under a grant is no longer needed for the original project or program or for other activities currently or previously supported by a Federal agency, disposition of the equipment will be made as follows: (1) Items of equipment with a current per-unit fair market value of less than $5,000 may be retained, sold or otherwise disposed of with no further obligation to the awarding agency; and (2) Items of equipment with a current per unit fair market value in excess of $5,000 may be retained or sold and the awarding agency shall have a right to an amount calculated by multiplying the current market value or proceeds from sale by the awarding agency's share of the equipment.

Granted by: Sandra B. Henriquez, Assistant Secretary for Public and Indian Housing.

Date Granted: February 19, 2010.

Reason Waived: The agency decided to contract out lawn and landscaping for each development rather than maintain agency equipment and staff employees for that purpose at the COCC. Subsequently, the COCC sold the tractor for $5,480.62, which was no longer needed for the operation of its projects. The agency requested a waiver to reimburse HUD for its participation in those personal assets in excess of $5,000, provided the agency use the sales proceeds for affordable housing purposes. The agency wanted to use the sale proceeds toward the unplanned purchase for the two replacement sewers at the COCC. HUD found that the agency presented good cause, and waived, the requirement under 24 CFR 85.32(e)(2) in the case of personal property in excess of $5,000, to reimburse HUD for its participation in those assets, provided the agency use the sales proceeds for affordable housing purposes as decided.

Contact: Johnson Abraham, Acting Program Manager, NASS, Real Estate Assessment Center, Office of Public and Indian Housing, Department of Housing and Urban Development, 550 12th Street, SW., Suite 100, Washington, DC 20410-5000, telephone (202) 475-8736.

• Regulation: 24 CFR 85.32(e)(2).

Project/Activity: Everett Housing Authority, Everett, Washington.

Nature of Requirement: HUD's regulation at 24 CFR 85.32(e)(2) provides that when original or replacement equipment acquired under a grant is no longer needed for the original project or program or for other activities currently or previously supported by a Federal agency, disposition of the equipment will be made as follows: (1) Items of equipment with a current per unit fair market value of less than 5,000 may be retained, sold or otherwise disposed of with no further obligation to the awarding agency; and (2) Items of equipment with a current per unit fair market value in excess of $5,000 may be retained or sold and the awarding agency shall have a right to an amount calculated by multiplying the current market value or proceeds from sale by the awarding agency's share of the equipment.

Granted by: Sandra B. Henriquez, Assistant Secretary for Public and Indian Housing.

Date Granted: March 9, 2010.

Reason Waived: Under asset management, and in accordance with HUD guidance, the agency has assigned various equipment no longer needed for the operation of any individual projects or AMPs to the COCC but are needed in the overall operation of the agency's projects and programs. Of this equipment, 15 items are valued in excess of $5,000. Accordingly, the agency requested a waiver of 24 CFR 85.32(e)(2) to reimburse HUD for its participation in those personal assets in excess of $5,000, provided the agency uses any future sales proceeds for affordable housing purposes. HUD found that the agency has presented good cause, in the case of the equipment in excess of $5,000, to reimburse the Department for its participation in those assets, provided the COCC uses this equipment for affordable housing purposes.

Contact: Johnson Abraham, Acting Program Manager, NASS, Real Estate Assessment Center, Office of Public and Indian Housing, Department of Housing and Urban Development, 550 12th Street, SW., Suite 100, Washington, DC 20410-5000, telephone (202) 475-8736.

• Regulation: 24 CFR 941.306(b) and (c).

Project/Activity: Park Avenue Block 5B.

Nature of Requirement: HUD's regulations at 24 CFR 941.306(b) and (c) require that the construction of units be within the Total Development Costs (TDC) and limit Housing Construction Costs (HCC).

Granted by: Deborah Hernandez for Sandra B. Henriquez, Assistant Secretary of Public and Indian Housing.

Date Granted: March 10, 2010.

Reason Waived: The Housing Authority of the City of County of Denver received funds under the American Reinvestment and Recovery Act (ARRA) to meet the Green Communities Criteria and complete 90 mixed-income rental units, of which 30 will be public housing. A waiver of TDC/HCC limits was allowed under the ARRA and in the Notice of Funding Availability (NOFA) for the Capital Fund Recovery Competition Grants (CFRC) for the use of ARRA funds in the redevelopment of public housing units.

Contact: Dominique Blom, Deputy Assistant Secretary for the Office of Public Housing Investments, Office of Housing, Department of Housing and Urban Development, 451 7th Street, SW., Room 4130, Washington, DC 20140, telephone (202) 402-4181.

• Regulation: 24 CFR 941.606(n)(1)(ii)(B).

Project/Activity: Phase II AD Price, Buffalo, NY.

Nature of Requirement: HUD's regulation at 24 CFR 941.606(n)(1)(ii)(B) requires that if an owner entity wants to serve as general contractor; it may self-award subject to demonstration to HUD's satisfaction that its bid is the lowest competitive offer.

Granted by: Sandra B. Henriquez, Assistant Secretary of Public and Indian Housing.

Date Granted: January 27, 2010.

Reason Waived: The regulation was waived on the basis of the independent cost estimate submitted by Buffalo Municipal Housing Authority.

Contact: Dominique Blom, Deputy Assistant Secretary for the Office of Public Housing Investments, Office of Public Housing, Department of Housing and Urban Development, 451 7th Street, SW., Room 4130, Washington, DC 20140-5000, telephone (202) 402-4181.

• Regulation: 24 CFR 941.606(n)(1)(ii)(B).

Project/Activity: Sheridan Station, Phase I (Grant: DC39URD001I107), Washington, DC.

Nature of Requirement: HUD's regulation at 24 CFR 941.606(n)(1)(ii)(B) requires that if an owner entity wants to serve as general contractor; it may self-award subject to demonstration to HUD's satisfaction that its bid is the lowest competitive offer.

Granted by: Sandra B. Henriquez, Assistant Secretary for Public and Indian Housing

Date Granted: February 3, 2010.

Reason Waived: The regulation was waived on the basis of the independent cost estimate submitted by the District of Columbia Housing Authority.

Contact: Dominique Blom, Deputy Assistant Secretary for the Office of Public Housing Investments, Office of Public and Indian Housing, Department of Housing and Urban Development, 451 7th Street, SW., Room 4130, Washington, DC 20140-5000, telephone (202) 402-4181.

• Regulation: 24 CFR 941.606(n)(1)(ii)(B).

Project/Activity: Delona Gardens and Campbell Terrace (Grant: NC19URD009I107) Fayetteville, NC.

Nature of Requirement: HUD's regulation at 24 CFR 941.606(n)(1)(ii)(B) requires that if an owner entity wants to serve as general contractor; it may self-award subject to demonstration to HUD's satisfaction that its bid is the lowest competitive offer.

Granted by: Sandra B. Henriquez, Assistant Secretary of Public and Indian Housing.

Date Granted: February 19, 2010.

Reason Waived: The regulation was waived on the basis of the independent cost estimate submitted by the Fayetteville Metropolitan Housing Authority.

Contact: Dominique Blom, Deputy Assistant Secretary for the Office of Public Housing Investments, Office of Public and Indian Housing, Department of Housing and Urban Development, 451 7th Street, SW., Room 4130, Washington, DC 20140-5000, telephone (202) 402-4181.

• Regulation: 24 CFR 941.606(n)(1)(ii)(B).

Project/Activity: Red Oak Townhomes (Grant: GA06URD264I102), Atlanta, GA

Nature of Requirement: HUD's regulation at 24 CFR 941.606(n)(1)(ii)(B) requires that if an owner entity wants to serve as general contractor; it may self-award subject to demonstration to HUD's satisfaction that its bid is the lowest competitive offer.

Granted by: Sandra B. Henriquez, Assistant Secretary of Public and Indian Housing.

Date Granted: March 5, 2010.

Reason Waived: The regulation was waived on the basis of the independent cost estimate submitted by the Housing Authority of Fulton County.

Contact: Dominique Blom, Deputy Assistant Secretary for the Office of Public Housing Investments, Office of Public and Indian Housing, Department of Housing and Urban Development, 451 7th Street, SW., Room 4130, Washington, DC 20140-5000, telephone (202) 402-4181.

• Regulation: 24 CFR 941.606(n)(1)(ii)(B).

Project/Activity: Renaissance Preserve Family Apartments (Grant: FL14URD047I105), Fort Myers, FL.

Nature of Requirement: HUD's regulation at 24 CFR 941.606(n)(1)(ii)(B) requires that if an owner entity wants to serve as general contractor; it may self-award subject to demonstration to HUD's satisfaction that its bid is the lowest competitive offer.

Granted by: Sandra B. Henriquez, Assistant Secretary of Public and Indian Housing.

Date Granted: April 1, 2010.

Reason Waived: The regulation was waived on the basis of the independent cost estimate submitted by the Housing Authority of the City of Fort Myers.

Contact: Dominique Blom, Deputy Assistant Secretary for the Office of Public Housing Investments, Office of Public and Indian Housing, 451 7th Street, SW., Room 4130, Washington, DC 20140-5000, telephone (202) 402-4181.

• Regulation: 24 CFR 941.610(a) (1)-(a)(7).

Project/Activity: Charlotte Housing Authority (CHA), Charlotte, NC.

Nature of Requirement: HUD's regulation at 24 CFR 941.610(a)(1)-(a)(7) requires HUD's review and approval of certain legal documents relating to mixed-finance development before a closing can occur and public housing funds can be released.

Granted by: Sandra B. Henriquez, Assistant Secretary of Public and Indian Housing.

Date Granted: March 17, 2010.

Reason Waived: To streamline the review process and expedite closing, CHA certified to the validity of certain legal documents. HUD still performed a standard development review of the project.

Contact: Dominique Blom, Deputy Assistant Secretary for the Office of Public Housing Investments, Office of Public and Indian Housing, Department of Housing and Urban Development, 451 7th Street, SW., Room 4130, Washington, DC 20140-5000, telephone (202) 402-4181.

• Regulation 24 CFR 960.206(b)(3).

Project/Activity: Pennington County Housing and Redevelopment Commission (PCHRC), 1805 West Fulton Street, suite 601, Rapid City, SD 57702-4380.

Nature of Requirement: HUD's regulation at 24 CFR 960.206(b)(3) states that public housing agencies (PHAs) may adopt an admission preference for families that include a person with disabilities. However, PHAs may not adopt a preference for persons with a specific disability.

Granted by: Sandra B. Henriquez, Assistant Secretary for Public and Indian Housing.

Date Granted: February 23, 2010.

Reason Waived: The waiver was granted to avoid the displacement and possible homelessness of developmentally disabled people in Pennington County, SD. A unique situation existed because the development for which the waiver was sought had housed people with developmental disabilities exclusively since it opened in 1977. HUD's regulations at the time of the development's inception permitted the PCHRC to utilize the housing development for individuals with this specific disability exclusively. The development was established to operate in combination with a service provider that serves individuals with developmental disabilities.

Contact: Renee Kneppar, Housing Program Specialist, Office of Public Housing Management and Occupancy Division, Office of Public and Indian Housing, Department of Housing and Urban Development, 451 7th Street, SW., Room 4214, Washington, DC 20410-5000, telephone (202) 402-6263.

• Regulation: 24 CFR 982.505(d).

Project/Activity: Lexington Housing Authority (LHA), Lexington, MA.

Nature of Requirement: HUD's regulation at 24 CFR 982.505(d) states that a public housing agency may only approve a higher payment standard for a family as a reasonable accommodation if the higher payment standard is within the basic range of 90 to 110 percent of the fair market rent (FMR) for the unit size.

Granted by: Sandra B. Henriquez, Assistant Secretary for Public and Indian Housing

Date Granted: January 15, 2010.

Reason Waived: The applicant, who has a disabled daughter, requires a wheelchair-accessible unit. To provide a reasonable accommodation so that this client and her family can remain in her current unit and pay no more than 40 percent of her adjusted income toward the family share, the LHA was allowed to approve an exception payment standard that exceeded the basic range of 90 to 110 percent of the FMR.

Contact: Laure Rawson, Acting Director, Housing Voucher Management and Operations Division, Office of Public Housing and Voucher Programs, Office of Public and Indian Housing, Department of Housing and Urban Development, 451 7th Street, SW., Room 4210, Washington, DC 20410-5000, telephone (202) 708-0477.

• Regulation: 24 CFR 982.505(d).

Project/Activity: Sioux Falls Housing and Redevelopment Commission (SFHRC), Sioux Falls, SD.

Nature of Requirement: HUD's regulation at 24 CFR 982.505(d) states that a public housing agency may only approve a higher payment standard for a family as a reasonable accommodation if the higher payment standard is within the basic range of 90 to 110 percent of the fair market rent (FMR) for the unit size.

Granted By: Sandra B. Henriquez, Assistant Secretary for Public and Indian Housing

Date Granted: January 20, 2010.

Reason Waived: The participant, who is disabled, requires certain features in her unit to accommodate her disabilities. To provide a reasonable accommodation so that this client can remain in her current unit and pay no more than 40 percent of her adjusted income toward the family share, the SFHRC was allowed to approve an exception payment standard that exceeded the basic range of 90 to 110 percent of the FMR.

Contact: Laure Rawson, Acting Director, Housing Voucher Management and Operations Division, Office of Public Housing and Voucher Programs, Office of Public and Indian Housing, Department of Housing and Urban Development, 451 7th Street, SW., Room 4210, Washington, DC 20410-5000, telephone (202) 708-0477.

• Regulation: 24 CFR 982.505(d).

Project/Activity: Brattleboro Housing Authority (BHA), Brattleboro, VT.

Nature of Requirement: HUD's regulation at 24 CFR 982.505(d) states that a public housing agency may only approve a higher payment standard for a family as a reasonable accommodation if the higher payment standard is within the basic range of 90 to 110 percent of the fair market rent (FMR) for the unit size.

Granted by: Sandra B. Henriquez, Assistant Secretary for Public and Indian Housing

Date Granted: February 3, 2010.

Reason Waived: The applicant, who is disabled, requires certain features in her unit to accommodate her disabilities. To provide a reasonable accommodation so that this client could be assisted in a unit that meets her needs and pay no more than 40 percent of her adjusted income toward the family share, the BHA was allowed to approve an exception payment standard that exceeded the basic range of 90 to 110 percent of the FMR.

Contact: Laure Rawson, Acting Director, Housing Voucher Management and Operations Division, Office of Public Housing and Voucher Programs, Office of Public and Indian Housing, Department of Housing and Urban Development, 451 7th Street, SW., Room 4210, Washington, DC 20410-5000, telephone (202) 708-0477.

• Regulation: 24 CFR 982.505(d).

Project/Activity: Housing Authority of Thurston County (HATC), Thurston County, WA.

Nature of Requirement: HUD's regulation at 24 CFR 982.505(d) states that a public housing agency may only approve a higher payment standard for a family as a reasonable accommodation if the higher payment standard is within the basic range of 90 to 110 percent of the fair market rent (FMR) for the unit size.

Granted by: Sandra B. Henriquez, Assistant Secretary for Public and Indian Housing.

Date Granted: February 23, 2010.

Reason Waived: The applicant, who is disabled, needs to remain in her current two-bedroom unit where she has a rotating caregiver as well as other support staff. To provide a reasonable accommodation so that this client could be assisted in her current unit and pay no more than 40 percent of her adjusted income toward the family share, the HATC was allowed to approve an exception payment standard that exceeded the basic range of 90 to 110 percent of the FMR.

Contact: Laure Rawson, Acting Director, Housing Voucher Management and Operations Division, Office of Public Housing and Voucher Programs, Office of Public and Indian Housing, Department of Housing and Urban Development, 451 7th Street, SW., Room 4210, Washington, DC 20410-5000, telephone (202) 708-0477.

• Regulation: 24 CFR 983.51, 983.204(b) and 983.206(b).

Project/Activity: New York City Housing (NYCHA), New York, NY.

Nature of Requirement: HUD's regulation at 24 CFR 983.51 requires competitive selection of owner proposals for project-based vouchers unless the units were competitively selected under a similar competitive process as described in the regulation. HUD's regulation at 24 CFR 983.204(b) states that in the case of existing housing, the housing assistance payments (HAP) contract must be executed promptly after PHA selection of the owner proposal and PHA inspection of the housing. HUD's regulation at 24 CFR 983.206(b) allows the PHA to add units to an existing PBV HAP contract only during the three-year period immediately following the execution date of that contract.

Granted by: Sandra B. Henriquez, Assistant Secretary for Public and Indian Housing

Date Granted: February 25, 2010.

Reason Waived: These waivers were granted to ensure the preservation of affordable housing by allowing the mixed-finance modernization of up to 18,000 units, and by providing a guarantee that 2,236 units currently occupied by families with tenant protection tenant-based vouchers would remain available for very low income families upon turnover through the project-based voucher program.

Contact: Laure Rawson, Acting Director, Housing Voucher Management and Operations Division, Office of Public Housing and Voucher Programs, Office of Public and Indian Housing, Department of Housing and Urban Development, 451 7th Street, SW., Room 4210, Washington, DC 20410-5000, telephone (202) 708-0477.

• Regulation: 24 CFR 984.303(d).

Project/Activity: Cumberland Housing Authority (CHA), Cumberland, Rhode Island.

Nature of Requirement: HUD's regulation at 24 CFR 984.303(d) limits the extensions of FSS contracts by a public housing agency to 2 years beyond the initial 5-year term of the FSS contract.

Granted by: Sandra B. Henriquez, Assistant Secretary for Public and Indian Housing.

Date Granted: March 30, 2010.

Reason Waived: CHA requested the waiver extend the FSS contract of an FSS participant for 1 month beyond the maximum term to permit him to complete his final goal of being welfare free for 12 months. The waiver was granted because the participant was impeded by illness, involuntary job loss, and complications of gaining full custody of his daughter. Good cause was found to waive the maximum 2-year contract extension for this participant.

Contact: Laure Rawson, Acting Director, Housing Voucher Management and Operations Division, Office of Public Housing and Voucher Programs, Office of Public and Indian Housing, Department of Housing and Urban Development, 451 7th Street, SW., Room 4210, Washington, DC 20410-5000, telephone (202) 708-0477.

• Regulation: 24 CFR 984.303(d).

Project/Activity: Sonoma County Housing Authority (SCHA), Santa Rosa, CA.

Nature of Requirement: HUD's regulation at 24 CFR 984.303(d) limits the extensions of FSS contracts by a public housing agency to 2 years beyond the initial 5-year term of the FSS contract.

Granted by: Sandra B. Henriquez, Assistant Secretary for Public and Indian Housing

Date Granted: February 03, 2010.

Reason Waived: SCHA provided evidence that the participant worked diligently against substantial odds to meet goals of FSS contract. Failure to complete within contract term was due to serious illness as well as job market conditions during severe economic downturn in California.

Contact: Laure Rawson, Acting Director, Housing Voucher Management and Operations Division, Office of Public Housing and Voucher Programs, Office of Public and Indian Housing, Department of Housing and Urban Development, 451 7th Street, SW., Room 4210, Washington, DC 20410-5000, telephone (202) 708-0477.

[FR Doc. 2010-15876 Filed 6-29-10; 8:45 am]

BILLING CODE 4210-67-P